DEPARTMENT OF ENERGY

Federal Energy Regulatory Commission

[Docket Nos. RP00-344-000 and RP00-601-000]

Dominion Transmission, Inc.; Notice of Technical Conference

December 7, 2000.

Take notice that a technical conference to further discuss the various issues raised by Dominion Transmission, Inc.'s (Dominion) Order No. 637 compliance filing will be held on Thursday, December 14, 2000, at 10 a.m., in a room to be designated at the offices of the Federal Energy Regulatory Commission, 888 First Street, NE., Washington, DC 20426.

All interested persons and Staff are permitted to attend.

Linwood A. Watson, Jr.,
Acting Secretary.

[FR Doc. 00-31850 Filed 12-13-00; 8:45 am]

BILLING CODE 6717-01-M